DEPARTMENT OF JUSTICE

Drug Enforcement Administration

Manufacturer of Controlled Substances; Notice of Application

Pursuant to § 1301.33(a) of Title 21 of the Code of Federal Regulations (CFR), this is notice that on March 7, 2002, Sigma Aldrich Research Biochemicals, Inc., 1-3 Strathmore Road, Natick, Massachusetts 01760, made application by renewal to the Drug Enforcement Administration (DEA) for registration as a bulk manufacturer of the basic classes of controlled substances listed below:

Drug | Schedule
Cathinone (1235) | I
Methcathinone (1237) | I
Aminorex (1585) | I
Alpha-Ethyltryptamine (7249) | I
Lysergic acid diethylamide (7315) | I
Tetrahydrocannabinols (7370) | I
4-Bromo-2,5-dimethoxy­amphetamine (7391) | I
4-Bromo-2,5-dimethoxy­phenethylamine (7392) | I
2,5-Dimethoxy­amphetamine (7396) | I
3,4-Methylenedioxyamphetamine (7400) | I
N-Hydroxy-3,4-methylenedioxy­amphetamine (7402) | I
3,4-Methylenedioxy-N-ethyl­amphet­amine (7404) | I
3,4-Methylenedioxy­methamphetamine (7405) | I
1-[1-(2-Thienyl) cyclohexyl] piperidine (7470) | I
Heroin (9200) | I
Normorphine (9313) | I
Amphetamine (1100) | II
Methamphetamine (1105) | II
Nabilone (7379) | II
Phenylcyclohexylamine (7460) | II
Phencyclidine (7471) | II
Cocaine (9041) | II
Codeine (9050) | II
Diprenorphine (9085) | II
Benzoylecgonine (9180) | II
Levomethorphan (9210) | II
Levorphanol (9220) | II
Meperidine (9230) | II
Metazocine (9240) | II
Methadone (9250) | II
Morphine (9300) | II
Thebaine (9333) | II
Carfentanil (9773) | II
Levo-alphacetylmethadol (LAAM) (9648) | II
Fentanyl (9801) | II

The firm plans to manufacture the listed controlled substances for laboratory reference standards and neurochemicals.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than August 27, 2002.

Dated: June 14, 2002.
Laura M. Nagel,
Deputy Assistant Administrator, Office of Diversion Control, Drug Enforcement Administration.

[FR Doc. 02-16364 Filed 6-27-02; 8:45 am]

BILLING CODE 4410-09-M